DEPARTMENT OF EDUCATION

34 CFR Part 5b

RIN 1880-AA85

[Docket ID ED, ED-2008-OM-0004]

Privacy Act Regulations

AGENCY: Office of Management, Department of Education.

ACTION: Final regulations.

SUMMARY: The Secretary amends the regulations implementing the Privacy Act of 1974, as amended (Privacy Act). These changes are intended to exempt from certain Privacy Act requirements investigative material in a new system of records maintained by the Department that will be known as the Office of Inspector General Data Analytics System (ODAS) (18-10-02). Specifically, the exemption applies to materials compiled by the Department's Office of Inspector General (OIG) for law enforcement purposes to identify internal control weaknesses and system issues and to improve methods of data modeling and annual audit planning in order to detect and investigate fraud, waste, and mismanagement in Department programs and operations.

DATES: These regulations are effective November 17, 2008.

FOR FURTHER INFORMATION CONTACT: Shelley Shepherd, Office of Inspector General, U.S. Department of Education, 400 Maryland Avenue, SW., room 8166, Washington, DC 20202-5920. Telephone: (202) 245-7077.

If you use a telecommunications device for the deaf (TDD), you may call the Federal Relay Service (FRS) at 1-800-877-8339.

Individuals with disabilities can obtain this document in an alternative format (e.g., Braille, large print, audiotape, or computer diskette) on request to the contact person listed under FOR FURTHER INFORMATION CONTACT.

SUPPLEMENTARY INFORMATION: On May 8, 2008 the Secretary published a notice of proposed rulemaking (NPRM) for this part in the Federal Register (73 FR 26056). In the summary to the NPRM, on pages 26056 and 26507, the Secretary discussed how the proposed regulations would amend the Department's Privacy Act regulations to exempt from certain Privacy Act requirements investigative material in a new system of records. The new system of records is the Office of Inspector General Data Analytics System (ODAS) and the exemption would apply to materials compiled by the Office of Inspector General (OIG) for law enforcement purposes.

There are no differences between the NPRM and these final regulations.

Analysis of Comments and Changes

In response to the Secretary's invitation in the NPRM, the Department received no comments on the proposed regulations.

Executive Order 12866

We have reviewed these final regulations in accordance with Executive Order 12866. Under the terms of the order we have assessed the potential costs and benefits of this regulatory action.

The potential costs associated with the final regulations are those resulting from statutory requirements and those we have determined to be necessary for administering this program effectively and efficiently.

In assessing the potential costs and benefits—both quantitative and qualitative—of these final regulations, we have determined that the benefits of the regulations justify the costs.

We have also determined that this regulatory action does not unduly interfere with State, local, and tribal governments in the exercise of their governmental functions.

We summarized the potential costs and benefits of these final regulations in the NPRM at 73 FR 26058.

Paperwork Reduction Act of 1995

These regulations do not contain any information collection requirements.

Electronic Access to This Document

You can view this document, as well as all other documents of this Department published in the Federal Register, in text and Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.gpoaccess.gov/nara/index.html.

(Catalog of Federal Domestic Assistance Number does not apply.)

Dated: October 10, 2008.
Christopher P. Marston,
Assistant Secretary for Management.

For the reasons discussed in the preamble, the Secretary amends Part 5b of title 34 of the Code of Federal Regulations as follows:

PART 5b—PRIVACY ACT REGULATIONS

1. The authority citation for part 5b continues to read as follows:

Authority: 5 U.S.C. 301, 5 U.S.C. 552a.

2. Section 5b.11 is amended by revising paragraph (c)(1) introductory text to read as follows:

§ 5b.11 Exempt systems.

* * * * *

(c) Specific systems of records exempted under (k)(2). (1) The Department exempts the Investigative Files of the Inspector General ED/OIG (18-10-01), the Hotline Complaint Files of the Inspector General ED/OIG (18-10-04), and the Office of Inspector General Data Analytics System (ODAS) (18-10-02) from the following provisions of 5 U.S.C. 552a and this part to the extent that these systems of records consist of investigatory material and complaints that may be included in investigatory material compiled for law enforcement purposes:

* * * * *

[FR Doc. E8-24608 Filed 10-15-08; 8:45 am]

BILLING CODE 4000-01-P